DEPARTMENT OF TRANSPORTATION

Federal Transit Administration

[Docket No. FTA-2022-0018]

National Transit Database: Reporting Changes and Clarifications

AGENCY: Federal Transit Administration, Department of Transportation (DOT).

ACTION: Final Notice; response to comments.

SUMMARY: This Notice finalizes and responds to comments on proposed changes to the National Transit Database (NTD) reporting requirements published in the Federal Register on July 7, 2022.

DATES: Some of the changes will take effect beginning in NTD Report Year (RY) 2023 or 2024, which corresponds to an agency's fiscal year, while others will take effect in calendar year (CY) 2023.

FOR FURTHER INFORMATION CONTACT: Thomas Coleman, National Transit Database Program Manager, FTA Office of Budget and Policy, (202)-366-5333, thomas.coleman@dot.gov.

SUPPLEMENTARY INFORMATION:

Table of Contents

A. Background | 2
B. General Comments | 2
C. New Sample-Based Monthly Data (WE-20) | 4
D. General Transit Feed Specification (GTFS) | 19
E. Collecting Geospatial Data for Demand Response Modes | 34
F. Emergency Contact Information | 41
G. Comments on Vehicle Fuel Type | 42

A. Background

The National Transit Database (NTD) is the nation's primary database for statistics on the transit industry. Pursuant to 49 U.S.C. 5334(k), FTA published a notice in the Federal Register on July 7, 2022 (87 FR 40582), seeking public comment on five changes to NTD reporting requirements. The comment period closed on September 6, 2022. FTA received one hundred and ninety-five (195) comments from forty (40) unique commenters.

The updates to NTD reporting requirements implement changes to Federal transportation law made by the Bipartisan Infrastructure Law, enacted as the Infrastructure Investment and Jobs Act (Pub. L. 117-58), and are informed by input from the transit industry. These changes are not related to safety and security (S&S) reporting, as FTA proposed S&S changes in a separate Federal Register notice (87 FR 42539).

B. General Comments

FTA received four general comments on the proposed NTD reporting requirements.

General: Additional Resources

Two comments indicated that States and rural and Tribal transit agencies would need additional resources to comply with the proposed requirements. One commenter noted that new, targeted funding would likely be required and requested that State Departments of Transportation be allowed to assist local agencies with reporting requirements.

FTA Response: In the sections below, FTA has identified resources and trainings that are already available, or will be made available in the next year, to help agencies comply with the new reporting requirements. FTA also believes that agencies can leverage existing funding and existing FTA programs to meet the requirements finalized in this Notice.

General: Uses of Data

One comment asked for additional detail on the current and future purposes of the proposed requirements.

FTA Response: Since each reporting requirement finalized by this Notice has a different use case, the purposes and uses of the data collected are described more fully for each requirement below. Generally, data collected through these requirements will provide FTA and other stakeholders with more complete information on national ridership trends, geographic service area coverage, and fuel usage.

General: Public Health Crisis

One comment indicated that making the proposed reporting changes in the wake of the COVID-19 pandemic could be an overcorrection, as the conditions that led to prior reporting challenges are unlikely to occur again.

FTA Response: The COVID-19 pandemic was one of several factors influencing the proposed reporting changes. The proposals also fulfill statutory obligations and meet other identified reporting needs. For example, FTA proposed the geographic service area coverage reporting requirements, as described in sections D and E of this Notice, in response to a statutory requirement under the BIL emergency contact collection, described in section F, is relevant for all categories of emergencies. Vehicle fuel type reporting is part of a longer-term effort to improve fuel tracking and promote sustainability.

FTA proposed the WE-20 weekly reference reporting requirement in part due to the need to have timely data during the COVID-19 pandemic; however, its necessity is not diminished in the absence of a pandemic. Timely data will always be necessary to inform decision-makers at the Federal, State, and local levels about ridership trends, seasonal patterns of demand, and ridership recovery. More detail on the WE-20 and its use cases is described in the following section.

C. New Sample-Based Monthly Data (WE-20)

Eighty-one (81) comments responded to FTA's proposal to collect weekly reference data from a sample set of modal reporters for key transit service metrics—unlinked passenger trips (UPT) and vehicle revenue miles (VRM). Four comments supported the new reporting requirement. One comment explicitly opposed the new reporting requirement with no reason given. An additional comment opposed the requirement for small transit providers but noted the potential benefits of this data collection, including for longitudinal analysis.

WE-20: Administrative Burden

Eighteen comments indicated that this requirement would constitute an administrative burden, particularly for smaller and rural reporters, with some stating that the benefit does not outweigh the burden. Many of these agencies (12 comments) cited staffing concerns as a potential obstacle for WE-20 reporting, particularly for small and rural agencies. One agency cited the burden created by validation of new data. Another expressed concern about the burden on staff who may lack technical expertise to meet the proposed requirements. Two comments expressed concerns about resource constraints (i.e., non-staff resources), with one commenter noting that such constraints have been exacerbated by the COVID-19 pandemic. One comment expressed concern about the unequal burden between sampled and non-sampled agencies.

FTA Response: FTA recognizes that the proposed requirements may increase burden on transit agencies, and that smaller or rural reporters may face additional challenges in meeting this new reporting requirement. FTA is mitigating the administrative burden by pursuing a sample-based approach for collecting these data. The goal of this sample is to provide a representative nationwide snapshot of transit ridership and transit service levels. Given the stratified random sampling methodology, it is possible that only a small number of small and rural reporters will be selected for the sample for any given sampling period. If selected for the sample, a small reporter will be required to report the data for a limited period of time, after which a different set of small reporters will be selected for the sample.

Furthermore, as described in the initial proposal, FTA will make “sampling adjustments as needed based on unavailable modes, reporters without weekly data access, or other factors.” If, for example, a reporter is selected for sampling and is unable to meet the submission requirements, the reporter may work with their NTD analyst to document these challenges. The NTD may sample from other reporters that do not face such challenges. FTA will work alongside these agencies to make sure that the process of weekly reference reporting is as simple and frictionless as possible, particularly where challenges exist due to resource or system constraints.

In addition, FTA is committed to making sure that all agencies at all levels have the support they need to comply with all NTD requirements. For example, FTA provides technical assistance to rural reporters through the National Rural Transit Assistance Program (NRTAP). NRTAP provides webinars, resource guides, and technology tools to assist rural and Tribal reporters with meeting NTD requirements. When the WE-20 requirements take effect, rural and Tribal reporters can take advantage of these resources to train staff and implement procedures to meet reporting deadlines. FTA will work with rural agencies, particularly those selected for the sample, to prioritize resources that will aid in the completion of the WE-20 form. For larger agencies, FTA regularly offers trainings on NTD reporting and will work with sampled urban agencies on targeted training as well.

FTA understands the impact that the COVID-19 pandemic has had on agency resources. In responses below, FTA details additional resources available to agencies, and highlights that WE-20 reporting is on a “best available data” standard. Together with the change in the reporting window (see below), FTA believes that WE-20 reporting will be achievable for all sampled agencies. In addition, FTA will aim to provide technical assistance to all sampled agencies.

WE-20: Reporting Window

Thirteen comments indicated that the proposed three business-day window for sampled agencies to report weekly reference WE-20 data was insufficient time to prepare accurate data, given transit agency resource constraints and internal data processing timelines. The most common suggested alternative was seven business days (six comments), with three other comments requesting 10 business days, and one comment proposing five business days. Three more comments expressed a desire for a longer reporting window but did not specify an alternative.

FTA Response: The purpose of the new WE-20 weekly reference reporting form is to provide timely, relevant data to understand changes in the transit industry. To meet this objective, it is necessary to prioritize the rapid delivery of transit ridership and transit service data that is sufficiently accurate to indicate trends. The WE-20 is meant to provide insights on the current state of transit without the delays associated with the more comprehensive monthly data collection, which in turn is reconciled against the annual data that will ultimately be used for the apportionment of formula grants.

FTA appreciates the commenters who noted that a three business-day window may be insufficient for some transit agencies. FTA understands that this may be particularly true for reporting weekly service data, given resource constraints. In consideration of the comments received, and in particular those regarding resource constraints, FTA will adopt a reporting deadline of seven business days for WE-20 data. For example, if the reference week ended on Sunday, July 16, 2023, the WE-20 would be due on Tuesday, July 25, 2023.

Allowing seven business days to submit data gives transit agencies additional time to meet the reporting deadline and should alleviate some of the concerns raised by the commenters. Moreover, this requirement should be easier to meet over time as agencies improve or automate their data collection practices. In addition, FTA will give agencies three months advance notice if they are selected as part of the sample, allowing agencies time to train staff in the new requirements before submissions are due.

WE-20: Relationship to Monthly Reporting

Eleven comments referenced the existing monthly reporting requirement for full reporters. Six of these comments suggested that the WE-20 would be duplicative because full reporters would still be required to report monthly data on the MR-20 form. One commenter noted that it would need to redesign existing systems that have been designed for monthly reporting. Four comments questioned how FTA will reconcile the monthly and/or annual submissions with the weekly reference WE-20 data, with one comment emphasizing that FTA should not seek to reconcile the data, and another expressing hope that the WE-20 data will improve FTA's validation processes. Finally, one comment suggested that instead of creating the WE-20 sample process, FTA should move the due date for monthly reporting from the 30th to the 15th of each month.

FTA Response: The WE-20 contains a week's worth of data and is intended as a “snapshot” of current trends in service and ridership. It is not intended to replace the monthly MR-20 reporting by urban transit providers. The MR-20 is an authoritative record that is reconciled against the annual report, while the WE-20 will be used to develop estimates for service data primarily to indicate trends relative to previous reports.

There is no requirement that agencies reconcile their WE-20 and MR-20 data. The WE-20 is intended as a “best available data” standard, reported consistently from month-to-month, in contrast to the more robust MR-20 standards. FTA emphasizes that the WE-20 data is expected to result in an estimate of ridership rather than a complete record. This data could be preliminary or minimally validated. In some cases, FTA may use WE-20 data as a validation check for future submissions but with the expectation of some variance. For instance, once FTA has multiple WE-20 submissions, FTA could look for anomalous values (e.g., zero, or a WE-20 indicating a −5% decrease in ridership in the same month that the MR-20 indicates a 4% increase in ridership) that are most likely due to human error rather than actual change in service levels. This validation process is consistent with prior NTD data validation procedures, as described in the NTD Policy Manual at page 14: “[v]alidation includes, but is not limited to . . . [l]ogic checks between data items on different forms[.]”

Because the metrics used for the WE-20 are the same as used in monthly and annual reporting—that is, unlinked passenger trips (UPT) and vehicle revenue miles (VRM)—agencies will be able to leverage existing systems to collect and report this data. Reporters can use the same collection and estimation procedures they would otherwise use (see below for more information on estimation). Furthermore, FTA understands that the same level of completeness and validation may not be possible, and hence the WE-20 data will be reported as the agency's “best available” estimate. Agencies therefore should not need to overhaul existing systems, but rather should modify them to collect enough data to estimate ridership for the reference week.

FTA believes that changing the due date on the monthly data from the 30th to the 15th would not be sufficient to provide the information that the WE-20 will provide. First and foremost, monthly reporting only applies to full reporters, and therefore by design excludes ridership information on rural and Tribal reporters. Furthermore, moving the deadline to the 15th would still create a 15-day lag in ridership information, which does not sufficiently increase the timeliness of national ridership estimates. For these reasons, FTA believes that this additional reporting requirement is not duplicative of existing NTD requirements. FTA therefore will not adopt the suggestion to change the monthly reporting deadlines as an alternative to the WE-20 form.

WE-20: Accuracy, Estimation, and Validation

Eight comments expressed concern about the accuracy or validation of the weekly sample data, with several comments noting the compressed reporting time frame and one noting varying ridership patterns. Other comments supported FTA's proposal to adopt a “best available data” standard for the WE-20. Some comments expressed concern that because the data may be minimally validated, it could result in incorrect or misleading ridership estimates. Another commenter noted that the data will not be as accurate as monthly data due to limited sampling size at the agency. One additional comment sought clarification that weekly reporting methods would rely on the same estimation methods as existing requirements (i.e., monthly MR-20 ridership).

FTA Response: FTA recognizes that weekly sample data likely will be less complete or less thoroughly validated than monthly and annual reporting. The WE-20 is intended to provide a timely snapshot of service and ridership data to assess trends at the national level. As discussed above, FTA will check monthly reporting against weekly WE-20 reports as a form of validation, but anomalies can and will happen. FTA believes that these inaccuracies will be minimal, and the benefit of assessing timely ridership trends outweighs the risk of slightly inaccurate sample data. Unlike the monthly ridership reporting, which is meant to be authoritative, FTA understands that the weekly sample data could be preliminary or minimally validated.

For estimation, FTA confirms that the same estimation methods will be used for weekly reference WE-20 reporting, with the caveat that the reporting standard for this form will be “best available data,” as described in FTA's proposal. Estimation methods are described in the NTD Reporting Manual, which can be downloaded here: https://www.transit.dot.gov/ntd/2022-ntd-reporting-policy-manual.

WE-20: Automatic Passenger Counters (APCs)

Four comments addressed the use of Automatic Passenger Counter (APC) devices in data collection for the WE-20. Some of the comments expressed that accurate data would be difficult to report because transit agencies, or certain modes or vehicles, do not use APC systems. One comment expressed support for the requirement and noted that rigorous NTD reporting could result in improvements in APC system quality. Another comment noted that raw APC data is imperfect, and often needs to be extrapolated to generate ridership estimates. One comment suggested that FTA introduce a longer adjustment period to allow agencies to upgrade their APC devices and software. The final comment on this subject stated that FTA should provide funding for agencies to purchase APCs in order to comply with this new reporting requirement.

FTA Response: FTA appreciates the comments regarding APC systems. The use of APC devices can greatly aid reporting agencies in collecting and then transmitting route and ridership data. It should be noted that the use of an APC, however, is not required for an agency to comply with new WE-20 reporting requirements. As long as agencies maintain accurate records of their service in accordance with NTD sampling standards, they will be able to supply consistent service data for the WE-20.

With regards to the accuracy of APC systems: the NTD Reporting Manual (available at https://www.transit.dot.gov/sites/fta.dot.gov/files/2022-09/2022-NTD-Full-Reporting-Policy-Manual-1-0_0.pdf) has detailed instructions for the use of APCs, including guidance on appropriate sampling methods and certification procedures. If an agency adheres to these guidelines, FTA can be reasonably certain of the accuracy of APC reporting, even with the understanding that estimation methods may be required. Further, FTA acknowledges that the timeframe for WE-20 reporting is shorter than that of the monthly MR-20, and FTA therefore will accept the “best available data” on the WE-20, a lower reporting standard than the more thorough validation used for monthly reporting.

WE-20: Training and Resources

Three comments expressed the need for FTA to provide training and/or identify available resources for transit agency staff to meet reporting requirements. One comment asked for FTA staff to gain additional technical capacity in order to publish timely data. The other two comments asked FTA to identify tools and/or resources that can be used to collect ridership data, particularly for small and rural reporters.

FTA Response: FTA provides, and will continue to provide, ongoing training for all NTD reporters based on their reporting module. Beginning in 2023, FTA will expand those offerings to include the WE-20, which will include targeted training for agencies selected for the WE-20. Full virtual courses are offered through the National Transit Institute, as well as webinars that are available live and with recordings viewable at any time. A full list of existing training programs is available at https://www.transit.dot.gov/ntd/trainings-and-conferences. FTA staff will continue to build its expertise and technical skills to process and publish data in a timely fashion.

FTA's reporting manuals and trainings contain information on best practices for ridership data collection. One option, discussed above in this document, is the use of an automatic passenger counter (APC). This is useful but by no means required. No novel technologies are required to meet this new requirement. The four reported metrics for the WE-20 are identical to metrics reported on other forms—that is, vehicle revenue miles (VRM) and unlinked passenger trips (UPT). Agencies can use existing sampling methods to calculate these ridership metrics. As such, the methods of collecting this data and the metrics themselves are not new.

FTA emphasizes that given the stratified random sampling method, it is possible that only a small number of rural reporters will be selected for the WE-20 sample for any given sampling period. Further, if selected for the sample, these reporters will be required to report the data for the limited sample period of three years. FTA will work closely with the selected small and rural agencies to ensure they are capable of meeting this requirement.

WE-20: Unlinked Passenger Trips vs. Linked Passenger Trips

Two comments expressed a desire for FTA to change the reported metric from Unlinked Passenger Trips (UPT) to Linked Passenger Trips (LPT). In particular, these agencies highlighted the difficulty of reporting UPT in the allotted timeframe, as some agencies may need to perform complicated analyses to calculate UPT from raw ridership data.

FTA Response: FTA appreciates that the reporting timeframe for the WE-20 is abbreviated. However, given that UPT are used in FTA's other NTD reporting and data products, FTA believes that ridership reporting should remain at the UPT level for the WE-20 for the sake of consistency. As explained above, the WE-20 is meant to lead to an estimate of service and ridership trends and need not be as precise or audited in the same way as monthly data. Rather than change the reporting metric to LPT, FTA encourages each agency to put forth the “best available data” for reporting UPT on the WE-20. This will ensure consistency in dimensions with the NTD's existing data products with the understanding that some variation will occur.

WE-20: Sample Selection and Size

Two comments expressed concern about the sample selection process or the sample size. One comment stated that a sample of 400 is large given that there are only approximately 500 full NTD reporters. The other comment suggested that FTA limit the sample selection period to less than three years, or alternatively, exclude smaller agencies (e.g., agencies with 100 or fewer fixed-route vehicles) from the sample selection.

FTA Response: With regards to the sample size, FTA is selecting 400 reporters out of all NTD reporters, not just the full NTD reporters. There are over 2,000 NTD reporters from which the sample will be selected, which includes but extends beyond the roughly 500 full reporters. While many of the selected agencies may be full reporters, the sample will not be entirely drawn from this subset. With that in mind, FTA still believes that 400 is an appropriate sample size.

As discussed above, the sample is intended to provide a representative nationwide snapshot of transit ridership and service levels. As such, FTA will not exclude small agencies from the sample. However, due to the stratified random sampling methodology, it is likely that only a few small agencies (such as those with less than 100 VRM) will be selected for any given sampling period. The three-year period was chosen because it gives agencies time to adapt and standardize reporting, which can happen only on a sufficient time horizon; any shorter sample period would create excess turnover and a loss of institutional knowledge.

WE-20: Frequency of Reporting

Two comments voiced opinions on the frequency of reporting. One comment stated that their agency's service was “not dynamic enough” to necessitate weekly reference reporting. In contrast, another comment expressed support for the increased frequency of reporting under the proposed WE-20.

FTA Response: FTA does not expect that ridership will vary that much at many agencies. However, as demonstrated by the COVID-19 pandemic, large shocks can and do affect ridership patterns, and those shocks can last long after the initial event. For large urban transit providers, the effects might be immediate but can take a very long time to return to baseline. For smaller transit providers, the effects may be less dramatic but persistent. Only by collecting timely and ongoing data can FTA assess the impact of changes and the overall trends in transit nationwide. Even for agencies where week-to-week variation is minimal, the larger patterns still tell an important story about the state of our nation's transit. For this reason, FTA agrees with the commenter that supported more frequent ridership reporting through the WE-20.

WE-20: Data Publication and Use

Two comments requested more information on how FTA plans to use the sample data and when it will be released.

FTA Response: The primary use of the WE-20 sample data is to project service and ridership trends on the national level. After collecting the reference week's data, FTA will aggregate the measures and construct a time series that will show increases (or decreases) in service and ridership over time. The function of this time series will be to provide stakeholders with a timely and well-supported ongoing estimate of the state of transit, which may then be used to inform FTA policy.

FTA will confirm its sampling methodology and notify the first cohort of WE-20 sampled agencies. Notified agencies will be given three months to prepare for their first WE-20 submission. FTA anticipates that, with this window in place, the first WE-20 reporting will begin in summer of 2023.

WE-20: Vanpool Mode Exemption

One comment suggested that vanpool providers be exempt from the WE-20 reporting requirement, or to require vanpools to report vehicles operating at maximum service (VOMS) only. The commenter noted that vanpools face unique challenges in reporting because they rely on vanpool members to report data.

FTA Response: With recognition that certain modes face unique challenges, FTA will work alongside all reporters, including vanpool operators, to accommodate agency or modal constraints as described above. Given the unique nature of the vanpool mode, and the challenges associated with reporting ridership, FTA will allow vanpool operators to report vehicles operating at maximum service (VOMS) as an alternative to reporting UPT and VRM. In cases where reporting the WE-20 is entirely impossible for a sampled reporter, FTA encourages the agency to work with their NTD analyst to document these challenges. FTA may make sampling adjustments to find applicable replacement reporters or modes as needed.

WE-20: Small and Rural Reporters

One comment sought clarification on whether the WE-20 reporting requirement would apply to rural reporters that receive assistance under 49 U.S.C. 5311. Another comment requested that FTA consider the capacity of small transit agencies when implementing this proposal. Several commenters expressed that small reporters may face technological challenges in reporting the data, noting that many of these providers still rely on paper or manual data entry formats. One comment suggested that FTA exclude the smallest agencies in sample selection.

FTA Response: FTA confirms that the WE-20 will apply to rural and Tribal reporters as well as urban reporters. The intent of the WE-20 form is to create a representative nationwide sample of the annual NTD reporting population—that is, of all users who report to the NTD—to create accurate, ongoing records of transit trends. Due to the stratified random sampling methodology, not every small or rural transit agency will be a part of the sample. Nevertheless, all small and rural agencies are eligible to be selected as sample WE-20 reporters. This extends to Tribal reporters who receive funding under 49 U.S.C. 5311. While FTA will not explicitly exclude the smallest agencies, our sampling methodology will be designed to create the most representative sample while also including sampling adjustments as necessary to ensure agencies have capacity to meet this requirement.

With regards to technological challenges, FTA believes that compliance with WE-20 reporting is achievable for all agencies. The metrics collected—UPT and VRM—are already those reported to the NTD on an annual basis, so agencies can use existing reporting methodologies to produce these ridership estimates, including manual data entry. FTA will work closely with sampled agencies, particularly those in rural areas, to ensure staff are able to report these metrics. For sampled agencies, this is a change in frequency of reporting and not type of reporting; therefore, technological challenges should be minimal.

WE-20: Pilot Programs

One comment suggested that FTA attempt a pilot implementation of this program for States and Tribes before rolling it out nationwide.

FTA Response: The first sample of the WE-20 will, in many ways, serve as the pilot of the program. FTA expects there may be challenges and anomalies in reporting for the first few cycles, as with any new NTD reporting requirement. However, by introducing a select but sizable cohort of agencies, FTA and transit agencies will be able to build institutional knowledge and provide the timely trend data that is necessary. While FTA is not creating a pilot program per se, FTA acknowledges that this reporting requirement will be an ongoing process of refinement on the part of transit agencies and FTA.

WE-20: Optional Reporting

One comment indicated that the WE-20 form should be made optional for agencies to complete.

FTA Response: Because the WE-20 form is intended to create a representative nationwide sample of transit ridership and transit service, this form cannot be made optional. Doing so would introduce bias, given that agencies providing WE-20 data voluntarily may differ systematically from agencies that would not do so voluntarily. In rare cases where reporting the WE-20 is impossible, transit agencies should contact their NTD analyst to document these challenges. FTA may make sampling adjustments to find applicable replacement reporters or modes as needed. FTA, therefore, is not adopting this suggestion.

WE-20: Real Time Data and Alternate Reporting Methods

One comment suggested that FTA should transition to using GTFS-ride, an extension of the General Transit Feed Specification (discussed in detail below), to track ridership. A related comment expressed that FTA should use real time data streams, instead of relying on calculated (derived) data points like UPT and VRM, while also noting that FTA should require implementation of historical data standards.

FTA Response: Extensions to GTFS are discussed in more detail in Part C below. FTA notes that many GTFS extensions, including GTFS-ride, require technical expertise beyond what is available to many agencies. While agencies may use GTFS-ride or other real-time tracking software for their own internal ridership tracking, FTA will not adopt this as an alternative to conventional ridership reporting. It is necessary to standardize reporting with methods that can be used by all transit agencies, many of whom lack the capacity to create advanced tracking mechanisms like GTFS-ride or other real-time reporting mechanisms.

At present, FTA is not proposing to reform historical data reporting to conform to emerging standards. FTA will continue to monitor these developments and evaluate them for future Report Years. The NTD itself serves as FTA's historical record of service information for agencies. The implementation of WE-20 reporting should not materially impact historical data standards.

WE-20: Social Vulnerability Index

One comment suggested that FTA incorporate the types of detail included in the Centers for Disease Control and Prevention (CDC) Social Vulnerability Index (SVI) into the WE-20 and other NTD reporting.

FTA Response: FTA appreciates the work of all Federal agencies in presenting comprehensive data on risks and vulnerabilities on a variety of dimensions. The CDC is no exception, and the available data on the SVI is a valuable resource for many stakeholders. However, in presenting its data, FTA focuses first and foremost on transit providers and the NTD. While FTA does not intend to create analyses that explicitly merge with the SVI dataset, there is nothing preventing end-users and stakeholders from accessing FTA's data and merging this for analytical purposes. In fact, FTA encourages data users to do so. To maximize available resources for FTA's strategic goals, FTA will not adopt this suggestion at this time.

After consideration of the comments received, FTA will require the weekly reference reporting WE-20 form as proposed with two changes: (a) the reporting window will be extended to seven business days after the close of the reference week, and (b) vanpool operators will be allowed to report vehicles operated in maximum service (VOMS) as an alternative to reporting VRM and UPT data. FTA will implement this requirement for sampled agencies beginning in the second quarter of calendar year 2023.

D. General Transit Feed Specification (GTFS)

FTA received 67 comments on the proposal to require reporting of static General Transit Feed Specification (GTFS) data for reporters. Thirteen comments expressed support for the new reporting requirements. One of these comments expressed support for adopting a single standard to compare and contrast across agencies and expressed its belief that the GTFS standard would be easier to create and maintain over time. A separate comment expressed opposition to the new requirement but did not specify a reason.

GTFS: Burden

Eight comments indicated that the GTFS requirement would impose a burden on smaller agencies, including rural and Tribal reporters. Many of these agencies reported concerns about insufficient staffing to create the GTFS feed, with one commenter noting that resource constraints have been exacerbated by the COVID-19 pandemic. Several of these comments highlighted the fact that staff may lack the technical expertise to create a GTFS feed, with one commenter noting that NRTAP's GTFS Builder assumes familiarity with Excel, Google Maps, and Google Earth. One comment indicated that creating a GTFS feed could be cost-prohibitive.

One additional comment expressed concern that Rural Transit Assistance Program (NRTAP) support is insufficient, as NRTAP is limited to providing support to agencies that receive funding under 49 U.S.C. 5311.

FTA Response: FTA understands that this requirement may be burdensome on transit agencies, especially small, rural, and Tribal operators. However, reporting geographic service area coverage is statutorily required under the BIL. As described in FTA's proposal, FTA believes that GTFS is the best way to collect this data for fixed-route service providers because it meets specific, practical needs in communicating service information in a standardized and widely used format. FTA further believes that the value of understanding the scope and scale of the Nation's fixed-route transit network, even in small urban, rural, or Tribal areas, outweighs the reporting burden. FTA will mitigate this burden through resources and training, including through the National Rural Transit Assistance Program (NRTAP).

NRTAP already has several resources available to help rural agencies generate GTFS data. For instance, a resource guide for creating a GTFS dataset is available at https://www.nationalrtap.org/Technology-Tools/GTFS-Builder. This also includes Excel templates that will allow users to build GTFS data from existing transit schedules and stop information with little to no additional technical expertise. FTA has confirmed that NRTAP will make these resources available to all reporters, not just rural reporters. This alleviates the concern that NRTAP assistance is too limited.

The GTFS Builder provided by NRTAP does not require advanced technological skills to create—it only requires the use of Microsoft Excel, Google Maps and Google Earth. Microsoft Excel is a widely used spreadsheet software which agencies will likely be familiar with, and Google Maps and Google Earth are widely used as well. NRTAP's GTFS Builder includes instructions on working with these latter two tools. With the available training and guides from FTA and NRTAP, FTA expects that the creation of a GTFS data set will be feasible for all applicable agencies.

GTFS: Alternate File Specifications

Eight comments proposed that FTA begin to incorporate newer or expanded GTFS versions. Two comments called for the adoption of GTFS-Realtime, a standard which tracks service in real time. One comment asked for the adoption of GTFS-ride, a GTFS extension used to track ridership. Three comments called for the NTD to add the Cal-ITP standard, a GTFS extension which incorporates GTFS-Realtime as well as requiring contactless payments and other provisions. Two comments recommended that FTA take an active role in developing and improving GTFS and related standards, including “staffing all GTFS standards meetings.”

FTA Response: The impetus for the creation of new mandatory GTFS reporting is the BIL's requirement that FTA must collect “geographic service area coverage” data through the NTD. FTA believes that a standard, static GTFS feed is the best way to meet this requirement. Furthermore, FTA aims to limit the burden on smaller agencies, who may be creating a GTFS feed for the first time. Adopting the basic, static GTFS feed sets a reasonable standard that all agencies can meet. While agencies are more than welcome to create additional GTFS extensions, including GTFS-Realtime and GTFS-ride, FTA will not impose those as requirements at this time. In particular, the creation of a GTFS-Realtime feed requires software knowledge beyond the basics needed for a static GTFS, and many agencies have already noted that even the creation of a static GTFS feed may pose an initial challenge.

Regarding the suggestion that FTA take an active role in the development and updating of the GTFS standard: FTA will monitor and review updates to the standard, but it will not at this time contribute to ongoing standard development. GTFS is an open source developed standard, and as such FTA will continue to allow the community to discover and address needs and will only adopt modifications that are germane to FTA's purposes.

GTFS: Training and Resources

Six comments expressed a desire for additional support in meeting the GTFS reporting requirements, particularly for small and rural reporters. Three of these comments expressed a desire for additional training for transit agency staff, administered nationally by FTA and/or through the National Rural Transit Assistance Program (NRTAP) or State Departments of Transportation (DOTs).

Two further comments stated that FTA should provide technical assistance and provide funding to agencies to develop GTFS feeds, purchase related software and systems, and create in-house technical assistance resources within State DOTs. One of these comments indicated that FTA should provide guidance supporting GTFS and open data standards in transit agency procurement.

The final comment expressed a desire for FTA to create a partnership among NRTAP, State DOTs, State Transit Associations, and Regional Planning Associations to share technical assistance resources and promote training.

FTA Response: FTA already has many ongoing training opportunities that reporters can utilize, which beginning in calendar year 2023 will cover new reporting requirements including GTFS. Reporters can use these trainings to gain the necessary background for NTD reporting requirements. Full virtual courses are offered through the National Transit Institute, as well as webinars that are available live and with recordings viewable at any time. A full list of existing training programs is available at https://www.transit.dot.gov/ntd/trainings-and-conferences.

For GTFS specifically, a variety of training resources are already available through NRTAP on their “GTFS Builder” site. This includes a written guidebook, links to FAQs, and video tutorials. The full list of resources is available at https://www.nationalrtap.org/Technology-Tools/GTFS-Builder/Support.

While FTA will not directly issue NTD guidance to agencies on their procurement related to GTFS, FTA encourages all agencies who contract services to ensure a high standard of quality in collection and delivery of GTFS data.

FTA notes that the only programs required to generate a GTFS feed are Microsoft Excel and Google Earth, so the creation of a GTFS, generally speaking, should not require any additional purchased software. At this time, no additional sources of funding for software purchases related to GTFS have been created.

While FTA does not have immediate plans to form formal partnerships with agencies to pool technical assistance resources, FTA will continue to direct agencies to existing resources, will continue to encourage and foster agency training, and will serve as a repository of knowledge and best practices. FTA will continue to consider how best to support reporters, whether on GTFS specifically or in general, on an ongoing basis.

GTFS: Validation

Six comments sought clarification on how NTD analysts would conduct GTFS data validation. One comment inquired whether FTA would inspect individual .txt files or simply confirm that all the necessary files are present. Another comment stated that FTA should clarify its expectations for the validity of GTFS data, such as recommending that agencies use an available validator like the Mobility Data validator.

FTA Response: FTA and its contractors conduct extensive data validation processes at all stages of the NTD. The submission of GTFS data is no exception.

For the file specifications themselves, there are many online GTFS validators, as detailed in the NRTAP guide to GTFS. One such service, provided at no cost, can be found at https://reflect.foursquareitp.com/validator/. As noted by the commenter, the Mobility Data validator is another open source, no cost option for validation, and can be found at https://github.com/MobilityData/gtfs-validator. Note that this validation does not necessarily check the content of the dataset but does ensure that submissions meet the formatting and fields specified in the GTFS guidelines. These steps can be completed by agencies pre-submission. While FTA will not make this validation step mandatory, agencies are encouraged to validate their GTFS feeds before submission with the same rigor they would validate, for example, financial data reported to the NTD.

In addition, FTA and its contractors will conduct validation of GTFS data once it has been submitted to the NTD. The primary validation check will be that all links to public GTFS are viable and current. The Uniform Resource Locators (URLs) provided by agencies will be checked periodically and agencies may be notified if a link they have provided is broken. Further, as part of FTA's existing NTD validation procedures, FTA can query the existing database of route information and service to ensure that data reported is consistent across the GTFS files and other elements of the NTD. This validation process is consistent with prior NTD data validation procedures, as described in the NTD Policy Manual at page 14: “[v]alidation includes, but is not limited to . . . [l]ogic checks between data items on different forms.” Validation analysts will also manually inspect files and routes, particularly the shapes.txt file (if provided), as an additional check on accuracy. Thus, FTA confirms that there will be some auditing of individual .txt files, though not necessarily for every submission.

GTFS: Reflecting Service Changes

Three comments sought clarification on how GTFS requirements would be implemented if service provision or service areas change throughout the year. Two of these comments suggested that planned service changes be reflected in GTFS feeds, with one commenter recommending that service changes be reflected no later than a week prior to the implementation of such service changes. An additional comment noted that there are challenges to maintaining an up-to-date inventory of bus stops, noting that the agency has made frequent service changes due to factors such as the pandemic, street closures, and detours. The commenter asked if FTA requires agencies to archive previous GTFS feeds when service changes.

FTA Response: FTA proposed that agencies establish and submit “static” GTFS data beginning in Report Year 2023. At minimum, then, agencies would need to certify annually as part of their D-10 submission to the NTD that their previously submitted web links are up to date. All fixed route service changes must be reflected in the web link. Accordingly, agencies are expected to update their GTFS whenever service changes. As noted in its proposal, FTA will monitor compliance by periodically checking GTFS data to ensure that the web links are viable and current, reflecting fixed route stops, routes, and schedules. FTA therefore expects agencies to maintain accurate, up to date GTFS data throughout the year. Agencies that experience changes in service will need to update their data accordingly. Given that this requirement extends to less-resourced agencies, including Tribal and rural agencies, FTA is not requiring agencies to update their feeds prior to service changes, nor will it adopt a strict seven-day timeline for incorporating service changes into the GTFS feeds. But through periodic validation and clear communication, FTA will ensure agencies are reflecting service changes in a timely fashion.

With regards to service changes, FTA notes that the requirement that “all fixed route service changes must be reflected” should be interpreted to include significant and long-term changes in routes or services but not temporary disruptions. Street closures and detours would not require changes in the feed so long as routes are not adjusted on a long-term basis. Changes in service due to the pandemic, however, would need to be reflected. Reporters should work with their validation analysts to determine what service changes merit an update to the GTFS feed.

FTA does not presently require the hosting of archival/historical service information. The priority is to maintain accessible, up to date GTFS feeds reflecting current service. Agencies are welcome to host and maintain archival copies of GTFS feeds, but FTA will neither require this nor conduct validation of such archives.

GTFS: “Feed_info.txt”

Three comments sought clarification on whether one component of the GTFS specification is required. Specifically, FTA proposed that the “feed_info.txt” file would be mandatory, yet the GTFS standard lists this document as “optional.”

FTA Response: The “feed_info.txt” is described as “optional” according to the GTFS standard, and FTA's requirements will conform to the established GTFS standard as of May 2022. Thus, the “feed_info.txt” file will be optional. Agencies can submit a “feed_info.txt” file with their GTFS submission if they so choose, but it will not be a mandatory part of the GTFS submission.

GTFS: Additional .txt files

Two comments noted that the GTFS feeds should include both “Calendar.txt” and “Calendar_date.txt” files. (FTA proposed that agencies submit either of the two files.) One of the two comments also asked FTA to provide additional text describing “shapes.txt”, which is listed as an optional part of the GTFS submission. This comment suggested that FTA describe this file as “highly recommended.”

FTA Response: As proposed, FTA is aligning its GTFS requirements with the published GTFS standards as of May 9, 2022. In accordance with those standards, FTA will only require one of the two Calendar files. For most agencies, this will be sufficient to capture service. Agencies are welcome to submit the second of the two files voluntarily, but given that this requirement applies to a broad spectrum of reporters, FTA will not require this second file.

FTA appreciates the added detail on the “shapes.txt” file. At this time, “shapes.txt” will remain an optional part of the GTFS submission, given that it requires some further technical skill to produce.

GTFS: Public Information

Two comments discussed the benefits of sharing GTFS feeds in publicly accessible formats. The first comment supported FTA's proposal that all GTFS feeds submitted to the NTD will enter the public domain. A related comment asked that FTA publish a list of GTFS URLs that includes certain other information, preferably in comma-separate values (CSV) format, for data users to access. The commenter further suggested that FTA could post this CSV file to an open-data portal.

FTA Response: FTA recognizes the need to make this data publicly available and is grateful for the support in that regard.

The GTFS feed information, like all other data collected by the NTD, will be published in a publicly accessible format in one or more of FTA's data products. These products are released annually at https://www.transit.dot.gov/ntd/ntd-data. Once FTA has collected and validated the GTFS URLs, we will release those in a public and accessible format. For ease of reference, this may not be in CSV format, as many of our data users are more familiar with Excel sheets. However, FTA is confident that end-users who wish to convert published files from Excel to CSV will be able to do so relatively easily.

GTFS: Password Protection and Other Sharing Restrictions

Two comments expressed concerns about publicly sharing GTFS data. One comment sought clarification on the requirement that the GTFS data not be password protected, based on their use of an existing password-protected application programming interface (API). The second comment noted that some agencies have contracts that prevent them from sharing GTFS feeds publicly.

FTA Response: The GTFS reporting requirements are intended to fulfill the BILaw “geographic service area coverage” requirement and will make transit route and service information accessible to the public to the greatest degree possible. Prospective data users should be able to go onto an agency's website and access GTFS information with as few barriers as practicable. FTA recognizes that there are potential information technology (IT) security concerns, including but not limited to deliberate denial of service (DDOS) attacks. Transit agencies must balance the need for IT security with the public provision of GTFS data. Transit agencies can employ solutions other than password protection for protecting their networks and still be in full compliance with this requirement.

If an agency password protects or otherwise continues to use credentialing as a barrier to GTFS data, they should notify their NTD validation analyst, provide an explanation why this is needed, and provide appropriate credentials to access the data. As described in FTA's proposal, if an agency is not able to host their GTFS feed in a web link accessible by FTA, they may submit it via alternative means, including email.

As an alternative option to hosting the data directly, agencies can submit their GTFS data to the National Rural Transit Assistance Program (NRTAP), who will host their GTFS data in a public (non-password-protected) format on their behalf. All agencies are eligible to have NRTAP host this data, even if they are not rural reporters.

Agencies that are under contract for their GTFS feeds should work with their validation analyst to determine the best option for hosting their feed. If the contract allows, agencies can have their data hosted on NRTAP, as described above. If not, FTA will work with the reporter to determine an appropriate solution.

GTFS: Replacing Existing Requirements

Two comments sought clarification on whether the GTFS data would replace any existing NTD requirements. One of these comments also asked FTA to consider whether GTFS data could be used to cross-validate other NTD data, such as directional route miles, and to consider developing related tools for transit agencies.

FTA Response: The GTFS data is intended to supplement existing NTD reporting. This reporting will fulfil the Bipartisan Infrastructure Law “geographic service area coverage” requirement and bring about greater public access to transit route information. Because FTA has existing validation protocols in place for other NTD data, including directional route miles, FTA will not explicitly be using geospatial data to audit non-geospatial metrics. However, agencies can and should ensure that there is consistency between their reported metrics and those reported in the GTFS feed.

Once fully implemented in Report Year (RY) 2023, compliance with the GTFS requirement will be monitored via an additional certification on the existing D-10 Form. NTD reporters will be responsible for maintaining their GTFS data and certifying that the links are viable and current. This will not supersede or replace any existing NTD requirements.

GTFS: File Hosting

One comment requested that FTA allow the State to host GTFS feeds on behalf of rural reporters in the State and provide those URLs instead.

FTA Response: States are encouraged to support and assist rural sub-reporters in whatever ways they can in meeting this new requirement. If hosting agency GTFS feeds in a central location aids in this process, FTA welcomes this option. Each agency must provide a URL to their agency's specific GTFS feed, so unique links will need to be generated, but these can all have the same host site.

GTFS: Optional Reporting

One comment stated that the GTFS submission should be optional.

FTA Response: FTA is required by the Bipartisan Infrastructure Law to collect “geospatial service area coverage” from NTD reporters. As such, this reporting cannot be made optional. After consideration of comments received, FTA continues to believe that GTFS is the best way to implement this statutory requirement for fixed-route service. Accordingly, FTA is adopting GTFS reporting as a mandatory requirement.

GTFS: Open Data Standards

Two comments called for FTA to support “open data standards”—specifically the Mobility Data Interoperability Principles (available at https://www.interoperablemobility.org/). The comments suggested that DOT should fund programs, organizations, and infrastructure to further open data standards. One of the commenters also suggested that FTA should support interoperability in transit agency information systems.

FTA Response: FTA recognizes the value of having open, accessible data. The NTD is a publicly viewable resource used by stakeholders and researchers across the nation. The adoption of GTFS as the NTD's geospatial standard for fixed-route service is both an acknowledgement of the hard work that has been done to develop it as an open-source tool, and a commitment to supporting and maintaining that standard.

However, the NTD must always balance the needs of its most technologically advanced reporters with those that have more limited resources and capacity. The adoption of GTFS would not be possible without the resources identified elsewhere in this Notice, such as NRTAP's GTFS Builder. The Mobility Data Interoperability Principles contain many useful extensions that agencies can and should use if they are capable of doing so; but the institutional support at transit agencies for these advancing technologies is not at the same level as for GTFS creation. As such, FTA will not be adopting further open data standard changes at this time.

FTA will continue to monitor new and emerging technologies for transit interoperability and assess agencies' capacity and needs. As more interoperability standards become easier to implement, FTA may implement new extensions to GTFS for future Report Years. In the interim, all agencies that have the capacity to adopt more open data standards are welcome to do so.

GTFS: Temporality of Reporting Requirements

One comment sought clarification on the temporality of reporting requirements with regards to two elements. First, the comment asked when FTA would harvest GTFS datasets. The second question asked whether the GTFS should cover a minimum date range. A related comment suggested that the NTD should extract the URLs used to host public facing GTFS data frequently.

FTA Response: FTA will ensure compliance with GTFS requirements in two ways. The first is for the agencies to certify on the D-10 form (part of their annual NTD submission) that GTFS links are current and viable. Agencies will provide their URL through this step, which will be collected and aggregated by FTA. This is an annual requirement, as it occurs as part of the existing NTD reporting schedule.

The second verification comes from FTA's inspection. These inspections will happen “periodically.” The timing of these inspections may vary from agency to agency. Agencies should ensure that GTFS web links are in working condition throughout the year.

As for the time range described by the feeds, agencies will report their start and end date in the “calendar.txt” file, in accordance with GTFS standards. The file is set up to cover a week (seven days) of service, with the expectation that service patterns will repeat for subsequent weeks or week-to-week variation will be minimal. If there is a change in service patterns such that one week differs significantly from another, FTA expects that the agency will update their GTFS feed accordingly.

GTFS: NTD ID Matching

Two comments requested that FTA clearly define how to handle data irregularities around NTD ID to GTFS dataset matching, such as when multiple NTD IDs match to a single GTFS feed. Specifically, the comment highlighted that there exists a protocol when a single NTD ID corresponds to several GTFS feeds, but does not define how to handle when one GTFS feed reflects more than one agency/NTD ID.

FTA Response: FTA is working closely with the Bureau of Transportation Statistics (BTS) to develop and improve our collection of GTFS feeds. FTA and BTS are aware of the issue raised by the commenter and believe it should only affect a small number of reporters. FTA and BTS are working to resolve the issue promptly. By the implementation of this reporting requirement in Report Year 2023, FTA anticipates that the technical issue will be resolved, and will require no change to the GTFS submissions as described. If agencies encounter any issues with submission of their GTFS feeds, whether on NTD ID matching or any other problem, they can contact their NTD validation analyst.

After consideration of the comments received, FTA will require the submission of GTFS feeds as proposed, with one change: the “feed_info.txt” file will now be considered an optional part of the GTFS submission. FTA will implement this requirement in Report Year 2023.

E. Collecting Geospatial Data for Demand Response Modes

FTA received 28 comments on the proposal that beginning in Report Year 2023 certain demand response modes must report geospatial data to the NTD using a new form. Of these comments, six supported the new form as proposed. One comment expressed opposition to the new requirements but did not specify why.

Demand Response: Other Geospatial File Formats

Eight comments suggested that, either instead of or in addition to requiring reporters to answer the questions proposed on the form, FTA should require or allow agencies to submit geospatial files to identify the areas they serve. The most commonly suggested geospatial file format was GTFS-Flex, a GTFS extension. Others proposed the use of GeoJSON files. One comment requested that FTA ask agencies to submit a map of service areas; another comment suggested the use of geospatial files but did not specify any file formats.

FTA Response: While FTA acknowledges that geospatial files are helpful for generating quick views of areas served, the agency has identified two reasons why allowing reporters to submit these files in lieu of completing the proposed form would result in insufficient or inconsistent data collection.

One limitation of requiring geospatial files for demand response is that there is not a consistent specification or standard. At present, the most commonly used tool for reporting geospatial data for demand response modes is GTFS-Flex. However, while some transit agencies have adopted this specification, not all agencies have done so, nor will all agencies be able to generate these types of files for their demand response services. At present, only approximately 100 transit agencies out of hundreds that have adopted GTFS use GTFS-Flex for their demand response services. Having multiple standards would make validation of this data by FTA more difficult and would prevent uniform reporting of NTD data.

Second, the questions on the new form capture information beyond geographic areas serviced. The form, as described in FTA's proposal, includes reporting of service dates, fares charged, and more. Thus, providing just a geospatial file would not be sufficient to capture all the information required by the new form. In the interest of ensuring all reporters submit information in a compatible format, the optimal solution is for all reporters to use FTA's geospatial form as proposed.

FTA will continue to track the development of specifications and standards related to geospatial files representing non-fixed route service for possible adoption at a point in the future.

Demand Response: Administrative Burden

Three comments indicated that this requirement would be unduly burdensome, especially for small or rural reporters. One comment also noted that, for larger agencies, the task of listing every census designated `Place' served by demand response service would be burdensome. One additional comment suggested that this requirement be extended to Report Year 2024 to give smaller agencies more time to prepare.

FTA Response: FTA is committed to providing support and assistance to small urban, rural, and Tribal reporters. The primary method of assistance is through the resources of the Rural Transit Assistance Program (NRTAP). When this requirement takes effect, agencies will be able to consult with NRTAP and use their tools to assist with training staff and complying with the new geospatial data reporting requirements.

For larger agencies, while FTA recognizes they serve a variety of areas, this is in line with previous NTD reporting. Agencies will need to list all the `Places' served. FTA notes that this is less cumbersome than preparing a geospatial file for each of the locations and does not require separate form submissions for each location. As such, it only affects a single field on the proposed form, and therefore agencies should be able to input all areas served in an efficient manner.

Additionally, FTA believes the Report Year 2023 time horizon is sufficient for agencies to comply with this new requirement. Because NTD submissions are due after the close of the fiscal year, the earliest that an agency would have to submit this data is September 2024, with most agencies providing this data in January or April of 2025. This gives agencies between 18 and 24 months to prepare to meet the new requirements. FTA is confident that all reporters will be able to meet the new requirements by their required submission date for Report Year 2023.

Demand Response: Multiple Service Providers

Three comments raised issues regarding the implementation of this requirement when multiple services are available in an area. One comment asked FTA to consider that agencies that operate multiple demand response services will need to be able to report on multiple services that could have varied funding sources. One comment presented an alternate version of the form that allows agencies to record different services on rows instead of separate form submissions. The third comment suggested that demand response reporters be asked to report what other modes serve their demand response service areas.

FTA Response: FTA appreciates that demand response service operators may offer multiple and/or overlapping services. In designing the form for Report Year 2023, FTA will take the comments regarding reporting challenges for reporters of multiple services under advisement. While reporters will need to separately enter information for each demand response mode operated, the NTD will make the submission of multiple entries as simple as possible. The intent of the new form is to capture the requisite information in the most efficient and useful way possible.

FTA will not require that agencies report other demand response modes or fixed-route services serving their areas. Asking demand response reporters to submit this information would be duplicative as this information is already collected by NTD and can be aggregated and compared using published data products.

Demand Response: Census Places

One comment sought clarification on the third question proposed to be included on the new NTD geospatial data reporting form. This question asks agencies to report Census `Places' served and whether `Places' are partially or wholly served. An additional comment asked FTA to consider requesting county-level data from reporters.

FTA Response: The U.S. Census Bureau defines `Places' to include a variety of formally incorporated geographical areas (i.e., cities, townships) and unincorporated communities. Because demand response modes serve a variety of riders across many transit networks, FTA determined that this flexible definition of place is the most useful for determining areas served.

A guide to what constitutes a Census `Place' can be found at this link: https://www.census.gov/content/dam/Census/data/developers/understandingplace.pdf. In many cases, the `Place' served may be the same as the county served, so FTA will not need to create a separate mechanism for county-level reporting. When implemented, the NTD form for the submission of demand response geospatial data will allow users to submit the appropriate `Places' served and to note whether the `Places' are wholly served or partially served. For the purposes of this form, “wholly served” refers to an agency that provides demand response service for the entire area of the relevant `Place,' whereas “partially served” refers to an agency that only serves a select area of the relevant `Place.'

Demand Response: Changes to Questionnaire

One comment suggested changes to question 4 on the new form. The comment also provided feedback on how answer fields should be formatted for questions 6 and 8 on the new form. Regarding question 4, the comment suggested that FTA should add a follow-up question allowing agencies to indicate demand response services they provide that are not ADA paratransit service to capture cases where agencies provide both complementary paratransit and other transit service. Regarding question 6, the comment suggested that FTA should ask agencies to provide details on their different eligibility or terms and conditions of service requirements. Regarding question 8, the comment suggested that FTA allow multiple selections and an open text field so agencies could fully describe populations served by demand response service.

FTA Response: FTA appreciates the comments on the proposed form. FTA is in the process of developing the field entries on the electronic form for this reporting requirement. Regarding the suggested addition of a follow-up question to question 4, the intent behind this question is to capture data on ADA paratransit services. At this time, FTA will not be adding a follow-up question on other demand response services. This will minimize burden on agencies completing this form. At present, FTA is not proposing to collect additional information on question 6 regarding eligibility and terms and conditions, and will be collecting only a yes/no response. FTA may revisit response options for this field in the future. Regarding question 8, FTA agrees with the comment and will work on creating a multiple-response or open text option to the extent that such a format is consistent with NTD validation use.

Demand Response: ADA Questions

One comment suggested that human service transportation (HST) rides, including vehicle service hours and miles, should be reported to the NTD as well as ADA paratransit service. A related comment made recommendations regarding NTD financial reporting requirements for ADA paratransit rides that are contracted out.

FTA Response: These comments are outside the scope of the proposals, so FTA will not address these issues in this Notice.

Demand Response: Technical Assistance

Two comments noted that small agencies may not have the technology required to meet new geospatial reporting requirements, and such providers and State DOTs would require assistance and new sources of funding to meet technology and staffing needs.

FTA Response: FTA has attempted to design the geospatial data collection form so that it is easy to complete. For example, completing the form requires no additional technology. Agencies will be able to input Census `Places' in the same manner as on existing NTD forms and the data will be collected as text. Agencies will be able to consult the Census Place website (linked above) to identify areas served. Because the form does not require additional software or technical expertise to complete, staffing impacts should also be minimal. FTA will provide training on how to complete the form to all agencies. A list of all available NRTAP resources for agencies, which is continually updated and will be updated with geospatial reporting information prior to reporting deadlines, is available at https://www.nationalrtap.org/Resource-Center/Resource-Library.

Demand Response: States Reporting on Behalf of Subrecipients

One comment inquired if State DOTs could answer these questions on behalf of rural subrecipients instead of agencies filling out the forms themselves.

FTA Response: In general, States complete NTD reports on behalf of their rural subrecipients, as described in the NTD Reporting Manual. This demand response form is no exception. State DOTs would therefore not only be able to complete the forms on behalf of subrecipients, but they would also be required to do so.

Demand Response: Simplified Reporting

One comment recommended that FTA develop a simplified reporting process or portal, as well as a method to revise or update the reported information, for agencies whose staff might have less technical capacity.

FTA Response: FTA has designed the form to be as straightforward as possible to reduce the burden on reporters. In addition, FTA offers periodic trainings on how to report service to the NTD. After publication of this final Notice, this training will include information on how to complete this new form. In light of efforts taken to develop the form, in addition to FTA trainings and resources available to reporters, FTA does not believe that there is a viable alternative reporting mechanism that would provide a simplified process. FTA will adopt the form as proposed and will make every effort to support agencies reporting their demand response services.

After consideration of the comments received, FTA will require the submission of the geospatial data form for demand response modes as proposed. FTA will implement this requirement in Report Year 2023.

F. Emergency Contact Information

FTA received seven comments on the proposal to require agencies to submit emergency contact information on the P-10 form. Six comments generally supported the proposal. One comment supported the proposal noting that it would facilitate better communication during emergencies.

FTA Response: FTA appreciates the support for this proposal and agrees that this data will facilitate better communication during emergencies.

Emergency Contact Information: Contractors

One comment sought clarification on whether the emergency contact requirements would apply only to the reporter or if they would also apply to contractors of a reporting agency.

FTA Response: This requirement will only apply to reporting agencies. It will not apply to contractors. If a reporter contracts out certain services, it should still provide emergency contact information for an employee of the reporter who can be reached during emergencies.

After consideration of the comments received, FTA will require the collection of emergency contact information as proposed. FTA will implement this requirement in Report Year 2023.

G. Comments on Vehicle Fuel Type

FTA received eight comments on the proposal to extend vehicle fuel type reporting requirements to all reporters. Six comments supported the proposed change.

Vehicle Fuel Type: Transit Asset Management (TAM) Alignment

One comment suggested that vehicle fuel type data should be collected in a way that is consistent with the existing protocols and standards of the Transit Asset Management (TAM) Program.

FTA Response: FTA strives for consistency in all its data reporting, through the NTD and other mechanisms. There is currently no existing mechanism for fuel type reporting under the TAM Program. FTA will collect fuel type information through the NTD from rural, Tribal, and capital asset-only reporters that is consistent with the current NTD fuel type collection from full and reduced reporters; the only reporting change is extending the vehicle fuel type reporting requirement to new categories of reporters.

Vehicle Fuel Type: Fuel Categories

One comment suggested that FTA provide clear fuel categories on the A-30 form, in light of new and emerging technologies.

FTA Response: For purposes of data validation, the new fuel type reporting for tribal, rural, and capital asset-only reporters will remain consistent with previous data collection for full and reduced reporters. The expansion of vehicle fuel type reporting to new categories of reporters will not, at this time, include an expansion of the fuel categories. Currently, the vehicle fuel type categories include options for both electric propulsion and electric battery. While FTA may revisit fuel categories for future report years in order to further incorporate new and emerging technologies, for the upcoming report year (Report Year 2023) these categories will remain the same.

After consideration of the comments received, FTA will require the submission of vehicle fuel type information as proposed. FTA will implement this requirement in Report Year 2023,

Nuria I. Fernandez,
Administrator.

[FR Doc. 2023-04379 Filed 3-2-23; 8:45 am]

BILLING CODE 4910-57-P